DEPARTMENT OF HOMELAND SECURITY

Coast Guard

33 CFR Part 165

[Docket No. USCG-2024-0560]

Safety Zones; Annual Fireworks Displays Within the Captain of the Port, Puget Sound Area of Responsibility—Mercer Island

AGENCY: Coast Guard, DHS.

ACTION: Notification of enforcement of regulation.

SUMMARY: The Coast Guard will enforce a safety zone near Mercer Island, WA for an annual fireworks display in the Captain of the Port, Sector Puget Sound area of responsibility on July 13, 2024 and July 14, 2024 to provide for the safety of life on navigable waterways during this event. Our regulation for marine events within the Thirteenth Coast Guard District identifies the regulated area for this event near Mercer Island, WA. No vessel operator may enter, transit, moor, or anchor within the safety zone, except for vessels authorized by the Captain of the Port, Sector Puget Sound or a Designated Representative.

DATES: The regulations in 33 CFR 165.1332 for the Mercer Island, WA location will be enforced from 9 p.m. on July 13, 2024, until 1 a.m. on July 14, 2024.

FOR FURTHER INFORMATION CONTACT: If you have questions about this notification of enforcement, call or email LTJG Kaylee Lord at 206-217-6045, or email Sector Puget Sound Waterways Management at SectorPugetSoundWWM@uscg.mil.

SUPPLEMENTARY INFORMATION: The Coast Guard will enforce special local regulations in 33 CFR 165.1332 for the Mercer Island regulated area from 9 p.m. on July 13, 2024 until 1 a.m. on July 14, 2024. This action is being taken to provide for the safety of life on navigable waterways during this event. Our regulation for marine events within the Thirteenth Coast Guard District, § 165.1332, specifies the location of the regulated area for the Mercer Island Celebration which encompasses portions of Lake Washington. The special requirements listed in 33 CFR 165.1332(b) apply to the activation and enforcement of the safety zone. During the enforcement periods, as reflected in § 165.1332(c), no vessel operator may enter, transit, moor, or anchor within the safety zone, except for vessels authorized by the Captain of the Port, Sector Puget Sound or Designated Representative.

In addition to this notification of enforcement in the Federal Register, the Coast Guard plans to provide notification of this enforcement period via marine information broadcasts and Local Notice to Mariners. If the Safety Zone is canceled earlier than listed in this regulation, notification will be provided via Local Notice to Mariners and marine information broadcasts.

Dated: July 5, 2024.
Mark A. McDonnell,
Captain, U.S. Coast Guard, Captain of the Port Sector Puget Sound.

[FR Doc. 2024-15323 Filed 7-11-24; 8:45 am]

BILLING CODE 9110-04-P